SMALL BUSINESS ADMINISTRATION

Notice of Request for Public Comment

ACTION: 60-Day notice and request for comments.

SUMMARY: The Small Business Administration (SBA) intends to request approval, from the Office of Management and Budget (OMB) for the collection of information described below. The Paperwork Reduction Act (PRA) of 1995 requires Federal agencies to publish a notice in the Federal Register concerning each proposed collection of information before submission to OMB, and to allow 60 days for public comment in response to the notice. This notice complies with that requirement.

DATES: Submit comments on or before October 7, 2024.

ADDRESSES: Send all comments to Curtis B. Rich, Management Analyst, 202-205-7030. Curtis.rich@sba.gov.

FOR FURTHER INFORMATION CONTACT: Curtis B. Rich, Management Analyst, 202-205-7030, curtis.rich@sba.gov.

SUPPLEMENTARY INFORMATION:

Abstract: A modern, streamlined and responsive customer experience means: Raising government-wide customer experience to the average of the private sector service industry; developing indicators for high-impact Federal programs to monitor progress towards excellent customer experience and mature digital services; and providing the structure (including increasing transparency) and resources to ensure customer experience is a focal point for agency leadership.

This proposed information collection activity provides a means to garner customer and stakeholder feedback in an efficient, timely manner in accordance with section 280 of OMB Circular A-11 at https://www.whitehouse.gov/wp-content/uploads/2018/06/s280.pdf.

The U.S. Small Business Administration will collect, analyze, and interpret information gathered through this generic clearance to identify services' accessibility, navigation, and use by customers, and make improvements in service delivery based on customer insights gathered through developing an understanding of the customer experience interacting with Government. The results will be used to improve the delivery of Federal services and programs. It will also provide government-wide data on customer experience that can be displayed on https://www.performance.gov to help build transparency and accountability of Federal programs to the customers they serve.

SBA will only submit collections if they meet the following criteria:

• The collections are voluntary;

• The collections are low-burden for respondents (based on considerations of total burden hours or burden-hours per respondent) and are low-cost for both the respondents and the Federal Government;

• The collections are non-controversial;

• Any collection is targeted to the solicitation of opinions from respondents who have experience with the program or may have experience with the program in the near future;

• Personally identifiable information (PII) is collected only to the extent necessary and is not retained;

• Information gathered is intended to be used for general service improvement and program management purposes.

• The agency will follow the procedures specified in OMB Circular A-11 Section 280 for the required quarterly reporting to OMB of trust data and experience driver data from surveys.

• Outside of the quarterly reporting mentioned in the bullet immediately above, if the agency intends to release journey maps, user personas, reports, or other data-related summaries stemming from this collection, the agency must include appropriate caveats around those summaries, noting that conclusions should not be generalized beyond the sample, considering the sample size and response rates. The agency must submit the data summary itself (e.g., the report) and the caveat language mentioned above to OMB before it releases them outside the agency. OMB will engage in a passback process with the agency.

Public responses to these individual collections will provide insights in improving services offered to the public. If this information is not collected, vital feedback from customers and stakeholders on services will be unavailable.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Generic Clearance for SBA Customer Experience Data Collections.

Description of Respondents: Generic Customer Base.

Form Number: N/A.

Total Estimated Annual Responses: 2,001,550.

Total Estimated Annual Hour Burden: 101,125.

Curtis Rich,
Management Analyst.

[FR Doc. 2024-17337 Filed 8-5-24; 8:45 am]

BILLING CODE 8026-09-P